DEPARTMENT OF HOMELAND SECURITY

U.S. Citizenship and Immigration Services

Agency Information Collection Activities: Form I-929, Extension, Without Change, of a Currently Approved Information Collection; Correction

ACTION: 60-Day Notice of Information Collection Under Review: Form I-929, Petition for Qualifying Family Member of a U-1 Nonimmigrant; OMB Control No. 1615-0106; Correction.

On June 27, 2012 the Department of Homeland Security, U.S. Citizenship and Immigration Services (USCIS) published a 60-day information collection notice in the Federal Register at 77 FR 38308, allowing for 60-day public comment period in connection with an information collection request it will be submitting to the Office of Management and Budget (OMB) for review and clearance in accordance with the Paperwork Reduction Act of 1995.

In the 60-day information collection notice, USCIS inadvertently indicated in the heading Agency Information Collection Activities section and in the Overview of This Collection, section (2), Title of the Form/Collection, that the title of the collection instrument was “H-2 Petitioner's Employment Related or Fee Related Notification.”

USCIS is now correcting that notice to read that everywhere in the notice, where the “H-2 Petitioner's Employment Related or Fee Related Notification” title appeared it should read “Petition for Qualifying Family Member of a U-1 Nonimmigrant”. This correction does not change the August 27, 2012, commenting period closing date.

Dated: June 29, 2012.
Laura Dawkins,
Chief Regulatory Coordinator, Regulatory Coordination Division, Office of Policy and Strategy, U.S. Citizenship and Immigration Services, Department of Homeland Security.

[FR Doc. 2012-16494 Filed 7-5-12; 8:45 am]

BILLING CODE 9111-97-P